DEPARTMENT OF HOMELAND SECURITY

Coast Guard

33 CFR Part 165

[Docket No. USCG-2015-0527]

Safety Zones; Recurring Events in Captain of the Port Boston Zone

AGENCY: Coast Guard, DHS.

ACTION: Notice of enforcement of regulation.

SUMMARY: The Coast Guard will enforce the safety zones in the Captain of the Port Boston Zone on the specified dates and times listed below. This action is necessary to ensure the protection of the maritime public and event participants from the hazards associated with these annual recurring events. Under the provisions of our regulations, no person or vessel, except for the safety vessels assisting with the event may enter the safety zones unless given permission from the COTP or the designated on-scene representative. The Coast Guard may be assisted by other Federal, State, or local law enforcement agencies in enforcing this regulation.

DATES: The regulation for the safety zones described in 33 CFR 165.118 will be enforced on July 3, 2015 between 7:00 p.m. to 11:00 p.m., on July 4, 2015 from 9:00 p.m. to 11:00 p.m., on July 10, 2015 from 6:00 a.m. to 4:00 p.m., and on July 11, 2015 from 8:30 a.m. to 10:30 a.m., as listed in the table located in the Supplementary Information.

FOR FURTHER INFORMATION CONTACT: If you have questions on this document, call or email Mr. Mark Cutter, Coast Guard Sector Boston Waterways Management Division, telephone 617-223-4000, email Mark.E.Cutter@uscg.mil.

SUPPLEMENTARY INFORMATION: The Coast Guard will enforce the safety zones listed in 33 CFR 165.118 on the specified dates and times as indicated in Table 1 below.

Table 1
7.1 City of Lynn 4th of July Celebration Fireworks | • Event Type: Firework Display.
| • Sponsor: City of Lynn.
| • Date: July 3, 2015.
| • Time: 7:00 p.m. to 11:00 p.m.
| • Location: All waters of Nahant Bay, within a 350-yard radius of the fireworks barge located at position 42°27.62′ N., 070°55.58′ W. (NAD 83).
7.4 Weymouth 4th of July Celebration Fireworks | • Event Type: Fireworks Display.
| • Sponsor: Town of Weymouth 4th of July Committee.
| • Date: July 3, 2015.
| • Time: 8:30 p.m. to 11:00 p.m.
| • Location: All waters of Weymouth Fore River, within a 350-yard radius of the fireworks launch site located at position 42°15.5′ N., 070°56.1′ W. (NAD 83).
7.6 Beverly Farms 4th of July Celebration Fireworks | • Event Type: Fireworks Display.
| • Sponsor: Farms-Pride 4th of July Committee.
| • Date: July 4, 2015.
| • Time: 9:00 p.m. to 11:00 p.m.
| • Location: All waters of Manchester Bay within a 350-yard radius of the fireworks launch site near West Beach located at position 42°33.84′ N., 070°48.5′ W. (NAD 83).
7.7 Boston Pops Fireworks | • Event Type: Fireworks Display.
| • Sponsor: Boston 4 Celebrations.
| • Date: July 4, 2015.
| • Time: 9:45 p.m. to 11:00 p.m.
| • Location: All waters of the Charles River within a 350-yard radius of the fireworks barges located in the vicinity of position 42°21.47′ N., 071°05.03′ W. (NAD 83).
7.8 City of Salem Fireworks | • Event Type: Fireworks Display.
| • Sponsor: City of Salem.
| • Date: July 4, 2015.
| • Time: 9:45 p.m. to 10:15 p.m.
| • Location: All waters of Salem Harbor, within a 350-yard radius of the fireworks launch site located on Derby Wharf at position 42°31.15′ N., 070°53.13′ W. (NAD 83).
7.9 Marblehead 4th of July Fireworks | • Event Type: Fireworks Display.
| • Sponsor: Town of Marblehead.
| • Date: July 4, 2015.
| • Time: 9:30 p.m. to 10:00 p.m.
| • Location: All waters of Marblehead Harbor within a 350-yard radius of the fireworks launch site located at position 42°30.34′ N., 070°50.13′ W. (NAD 83).
7.10 Plymouth 4th of July Fireworks | • Event Type: Fireworks Display.
| • Sponsor: July 4 Plymouth, Inc.
| • Date: July 4th, 2015.
| • Time: 9:00 p.m. to 10:00 p.m.
| • Location: All waters of Plymouth Harbor within a 350-yard radius of the fireworks launch site located at position 42°57.3′ N., 070°38.3′ W. (NAD 83).
7.19 Swim Across America Boston | • Event Type: Swim.
| • Sponsor: Swim Across America.
| • Date: July 10, 2015.
| • Time: 6:00 a.m. to 4:00 p.m.
| • Location: All waters of Boston Harbor between Rowes Warf and Little Brewster Island within the following points (NAD 83): 42°21.4′ N., 071°03.0′ W. 42°21.5′ N., 071°02.9′ W. 42°19.8′ N., 070°53.6′ W. 42°19.6′ N., 070°53.4′ W.
7.21 Swim Across America Nantasket Beach | • Event Type: Swim.
| • Sponsor: Swim Across America.
| • Date: July 11, 2015.
| • Time: 8:30 a.m. to 10:30 a.m.
| • Location: All waters of Massachusetts Bay near Nantasket Beach within the following points (NAD 83): 42°16.7′ N., 070°51.9′ W. 42°16.9′ N., 070°51.3′ W. 42°16.3′ N., 070°50.5′ W. 42°16.1′ N., 070°51.0′ W.

This document is issued under authority of 33 CFR 165.118 and 5 U.S.C. 552(a). In addition to this document in the Federal Register, the Coast Guard will provide mariners with advanced notification of enforcement periods via the Local Notice to Mariners and Broadcast Notice to Mariners. If the COTP determines that the regulated areas need not be enforced for the full duration stated in this document, a Broadcast Notice to Mariners may be used to grant general permission to enter the regulated areas.

Dated: June 22, 2015.
C.C. Gelzer,
Captain, U.S. Coast Guard, Captain of the Port Boston.

[FR Doc. 2015-16746 Filed 7-7-15; 8:45 am]

BILLING CODE 9110-04-P